FEDERAL COMMUNICATIONS COMMISSION

[Report No. 2521]

Petition for Reconsideration of Action in Rulemaking Proceeding

December 17, 2001.

Petition for Reconsideration has been filed in the Commission's rulemaking proceeding listed in this Public Notice and published pursuant to 47 CFR Section 1.429(e). The full text of this document is available for viewing and copying in Room CY-A257, 445 12th Street, SW., Washington, DC or may be purchased from the Commission's copy contractor, Qualex International (202) 863-2893. Oppositions to this petition must be filed by January 14, 2002. See Section 1.4(b)(1) of the Commission's rules (47 CFR 1.4(b)(1)). Replies to an opposition must be filed within 10 days after the time for filing oppositions has expired.

Subject: Amendment of FM Table of Allotment (MM Docket No. 01-107).

Number of Petitions Filed: 1.

Magalie Roman Salas,
Secretary.

[FR Doc. 01-31861 Filed 12-27-01; 8:45 am]

BILLING CODE 6712-01-M